DEPARTMENT OF COMMERCE

National Oceanic and Atmospheric Administration

50 CFR Part 679

[Docket No. 011128283-3075-03; I. D. 111401B]

RIN 0648-AN55

Fisheries of the Exclusive Economic Zone Off Alaska; Correction

AGENCY: National Marine Fisheries Service (NMFS), National Oceanic and Atmospheric Administration (NOAA), Commerce.

ACTION: Final rule; Technical amendment.

SUMMARY: This document corrects a cross reference in the regulatory text of 50 CFR part 679. The action is necessary to correct an error in a cross reference at § 679.20(a)(5)(iii)(B).

DATES: Effective April 8, 2003.

FOR FURTHER INFORMATION CONTACT: Patsy A. Bearden, NMFS, 907-586-7228 or e-mail at patsy.bearden@noaa.gov.

SUPPLEMENTARY INFORMATION: A final rule, which published December 30, 2002 (67 FR 79692), redesignated § 679.20(a)(5)(ii) as § 679.20(a)(5)(iii). This paragraph redesignation affected a cross reference in existing § 679.20(a)(5)(iii)(B) but the change was not made. This error is corrected by this action.

Need for Corrections

This rule corrects a cross reference in § 679.20(a)(5)(iii)(B) by removing the reference to “(a)(5)(ii)(A)” and adding in its place “(a)(5)(iii)(A).”

Classification

Pursuant to 5 U.S.C. 553(b)(B), the Assistant Administrator of Fisheries (AA), NOAA, finds good cause to waive prior notice and an opportunity for public comment. NOAA finds that prior notice and comment are unnecessary as this rule makes a minor, non-substantive change to correct a mis-citation to another section of the regulation. Because this action is not substantive, 5 U.S.C. 553(d) does not apply. Therefore, this final rule is not subject to a 30-day delay in effectiveness.

List of Subjects in 50 CFR Part 679

Alaska, Fisheries, Recordkeeping and reporting requirements.

Dated: April 2, 2003.
John Oliver,
Deputy Assistant Administrator for Operations, National Marine Fisheries Service.

Accordingly, 50 CFR part 679 is corrected by making the following correcting amendments:

PART 679—FISHERIES OF THE EXCLUSIVE ECONOMIC ZONE OFF ALASKA

1. The authority citation for part 679 continues to read as follows:

Authority: 16 U.S.C. 773 et seq., 1801 et seq.; 3631 et seq.; Title II of Division C, Pub. L. 105-277; Sec 3027, Pub. L. 106-31; 113 Stat. 57; 16 U.S.C. 1540(f); and Sec. 209, Pub, L, 106-554.

§ 679.20 [Corrected]

In § 679.20(a)(5)(iii)(B), the cross-reference “(a)(5)(ii)(A)” is corrected to read “(a)(5)(iii)(A)”.

[FR Doc. 03-8684 Filed 4-8-03; 8:45 am]

BILLING CODE 3510-22-S